DEPARTMENT OF DEFENSE

Department of the Army

Record of Decision (ROD) for the Training Land Acquisition (Including Purchase and Lease) at Fort Polk, LA

AGENCY: Department of the Army, DoD.

ACTION: Notice of Availability (NOA).

SUMMARY: The Department of the Army announces the availability of its ROD which summarizes and documents its decision to proceed with Alternative 3, the acquisition of up to 100,000 acres of additional training land in Vernon and Rapides Parrish in the areas South of Peason Ridge, and to the North and East of Fort Polk's existing training lands. The decision considers the Army's mission requirements at Fort Polk and the environmental analysis contained in the Final Environmental Impact Statement (FEIS) for Training Land Acquisition at Fort Polk, Louisiana (March 2009). The ROD describes the Army's decision to proceed with Alternative 3. This decision provides the Army with the most options and best opportunities to meet Fort Polk and the Joint Readiness Training Center (JRTC) training needs and is also the environmentally preferred alternative.

ADDRESSES: For questions regarding the ROD, please contact Ms. Susan Walker, Fort Polk Public Affairs Office (PAO), 7033 Magnolia Road, Fort Polk, LA 71459-5342. A copy of the FEIS and ROD are available at the following Web site: http://www.jrtc-polk.army.mil/LandPurchase/index.html.

FOR FURTHER INFORMATION CONTACT: Ms. Susan Walker at (337) 531-9125 from 9 a.m. to 5 p.m. CST or e-mail Susan.T.Walker@conus.army.mil.

SUPPLEMENTARY INFORMATION: The Fort Polk FEIS analyzed the environmental, cultural and socioeconomic impacts of several acquisition location alternatives, each of which included the acquisition of up to 100,000 acres of land. Alternative 1 considered the acquisition of lands directly adjacent to Fort Polk's existing training areas to the south of Peason Ridge and directly north and east of the main post. As part of Alternative 1, units would continue to lease lands to convoy to Peason Ridge to access training areas. Alternative 2 considered the acquisition of the land considered in Alternative 1, and, in addition, considered the acquisition of parcels that connect Peason Ridge with Fort Polk's main post. Alternative 3, the Preferred Alternative and selected alternative, considered the acquisition of those lands considered in Alternative 2, and the acquisition of lands to the east of Fort Polk in Rapides Parish. The FEIS also analyzed the No Action Alternative, which evaluates the impacts of taking no action to acquire or use additional training land around Fort Polk. Under the No Action alternative, the purpose and need for the proposed action would not be met.

Alternative 3 has been selected by the Army because it has the most potential to allow the Army to acquire adequate maneuver training land to support the training requirements of the JRTC and Fort Polk's resident units. Alternative 3 provides the best opportunities for the Army to acquire new lands that are compatible with Fort Polk's training needs, and the implementation of this alternative will reduce future potential training land use conflicts between JRTC and Fort Polk's resident units. The implementation of Alternative 3 will also attenuate adverse environmental impacts over a broader area and will ensure a greater amount of land is actively managed to promote increased sustainability and reduce environmental impacts.

In making its decision, the Army has determined that significant environmental impacts may occur from the selected alternative with regard to changes in land use and potentially from noise depending on which lands are eventually acquired as part of this decision. In addition to these potentially significant impacts, the Army anticipates that moderate impacts to soil resources, water resources, wetlands, biological resources, cultural resources, and socioeconomics would occur as a result of implementing the Proposed Action. To mitigate potential impacts, the Army will survey new lands for cultural and natural resources prior to training and will manage training activities to reduce noise impacts. The Army will provide recreational/hunting access to new lands to the extent practicable and will bring new lands under the framework of the installation's existing environmental management programs. Substantive compliance with the National Historic Preservation Act (NHPA) will be accomplished through adherence to the Integrated Cultural Resource Management Plan, which, together with the FEIS, outline cultural resource management practices that would be applied to newly acquired lands. Compliance with Section 106 of the NHPA is being accomplished as part of this EIS process.

Dated: May 12, 2010.
Addison D. Davis, IV,
Deputy Assistant Secretary of the Army (Environment, Safety and Occupational Health).

[FR Doc. 2010-12014 Filed 5-18-10; 8:45 am]

BILLING CODE 3710-08-P